DEPARTMENT OF HOMELAND SECURITY

Coast Guard

[Docket No. USCG-2015-0174]

Commercial Fishing Vessel Engineers

AGENCY: Coast Guard, DHS.

ACTION: Notice of availability.

SUMMARY: The Coast Guard announces the availability of an updated policy letter entitled “Engineer Officer Endorsements on Uninspected Commercial Fishing Industry Vessels.” The letter provides guidance to Coast Guard officers with respect to the upcoming enforcement of existing requirements for the proper credentialing of engineering officers. Some accident investigations have found that engineers were not properly credentialed to serve in their assigned positions. This notice promotes the Coast Guard's maritime safety and stewardship missions.

DATES: The Coast Guard's enforcement of existing requirements for the proper credentialing of engineer officers on uninspected commercial fishing vessels begins October 15, 2015.

FOR FURTHER INFORMATION CONTACT: For information about this document call or email Mr. Jack Kemerer, Coast Guard; telephone 202-372-1249, email Jack.A.Kemerer@uscg.mil. For information about viewing or submitting material to the docket, call Cheryl Collins, Program Manager, Docket Operations, telephone 202-366-9826, toll free 1-800-647-5527.

SUPPLEMENTARY INFORMATION:

Discussion

Longstanding Coast Guard regulations ¹ state that an “individual engaged or employed to perform the duties of chief engineer on a mechanically propelled, uninspected, seagoing, documented vessel of 200 gross tons or over must hold an appropriately endorsed MMC [merchant mariner credential] authorizing service as a chief engineer,” and that, “An individual in charge of an engineering watch on a mechanically propelled, seagoing, documented vessel of 200 GRT [gross regulatory tons] or more, other than an individual described in § 15.820 of this subpart, must hold an appropriately endorsed license or MMC authorizing service as an assistant engineer.” In October 2011, we issued a policy letter ² noting widespread non-compliance with these requirements among commercial fishing vessel engineers. Recognizing that the industry would require time to come into compliance, we set January 1, 2014, as the date we would begin strict enforcement of the regulations. In December 2013,³ upon learning that industry required still more time, we delayed that date one year to January 1, 2015. We are again delaying the date, to October 15, 2015, but we are preparing to enforce compliance beginning on that October date.

¹ 46 CFR 15.820(c) and 46 CFR 15.825(a).

² Policy Letter 11-11 (CG-543 Memorandum 16700), Oct. 7, 2011, “Engineer Officer Endorsements on Uninspected Commercial Fishing Industry Vessels.”

³ CGMS DTG 061640Z Dec 13, “Engineer Officer Endorsements on Uninspected Commercial Fishing Vessels.”

We understand that strict industry-wide compliance may still not be practicable as of October 15, 2015. Therefore, where an owner/operator or company has established a training program designed to bring company operations into compliance with the prescribed regulations on engineer officer endorsements, the Officer in Charge, Marine Inspection (OCMI) may defer, for a specific vessel or fleet of vessels, on a case by case basis, strict enforcement of the provisions of the regulations beyond October 15, 2015. Persons seeking this consideration should submit a proposal to their cognizant OCMI as soon as possible but not later than October 15, 2015.

This notice is issued under authority of 5 U.S.C. 552(a).

Dated: March 12, 2015
J.C. Burton,
Captain, U.S. Coast Guard, Director of Prevention and Compliance.

[FR Doc. 2015-06480 Filed 3-19-15; 8:45 am]

BILLING CODE 9110-04-P